DEPARTMENT OF TRANSPORTATION

National Highway Traffic Safety Administration

[Docket No. NHTSA-2004-19996; Notice 1]

Dynamic Tire Corp., Receipt of Petition for Decision of Inconsequential Noncompliance

Dynamic Tire Corp. (Dynamic Tire) has determined that certain tires it imported and which were manufactured by Tianjin Wanda Tyre Group Co., LTD do not comply with S6.5(b) of Federal Motor Vehicle Safety Standard (FMVSS) No. 119, “New pneumatic tires for vehicles other than passenger cars.” Dynamic Tire has filed an appropriate report pursuant to 49 CFR Part 573, “Defect and Noncompliance Reports.”

Pursuant to 49 U.S.C. 30118(d) and 30120(h), Dynamic Tire has petitioned for an exemption from the notification and remedy requirements of 49 U.S.C. Chapter 301 on the basis that this noncompliance is inconsequential to motor vehicle safety.

This notice of receipt of Dynamic Tire's petition is published under 49 U.S.C. 30118 and 30120 and does not represent any agency decision or other exercise of judgment concerning the merits of the petition.

A total of approximately 67,864 tires produced between August 1, 2004 to December 4, 2004 are affected. S6.5(b) of FMVSS No. 119 requires that each tire shall be marked on each sidewall with “the tire identification number required by part 574 of this chapter.” Part 574.5(d) requires the date code to be listed such that the first two symbols must identify the week of the year and third and fourth symbols must identify the year. The noncompliant tires reversed the order of these symbols.

Dynamic Tire believes that the noncompliance is inconsequential to motor vehicle safety and that no corrective action is warranted. Dynamic Tire states that “the production week * * * begins with the 31st week of 2004 which eliminates any possibility of confusion between week and year designation.” Dynamic Tire further states that the tires comply with all other requirements of the Federal Motor Vehicle Safety Standards.

Interested persons are invited to submit written data, views, and arguments on the petition described above. Comments must refer to the docket and notice number cited at the beginning of this notice and be submitted by any of the following methods. Mail: Docket Management Facility, U.S. Department of Transportation, Nasif Building, Room PL-401, 400 Seventh Street, SW., Washington, DC 20590-0001. Hand Delivery: Room PL-401 on the plaza level of the Nasif Building, 400 Seventh Street, SW., Washington, DC. It is requested, but not required, that two copies of the comments be provided. The Docket Section is open on weekdays from 10 a.m. to 5 p.m. except Federal Holidays. Comments may be submitted electronically by logging onto the Docket Management System Web site at http://dms.dot.gov. Click on “Help” to obtain instructions for filing the document electronically. Comments may be faxed to 1-202-493-2251, or may be submitted to the Federal eRulemaking Portal: go to http://www.regulations.gov. Follow the online instructions for submitting comments.

The petition, supporting materials, and all comments received before the close of business on the closing date indicated below will be filed and will be considered. All comments and supporting materials received after the closing date will also be filed and will be considered to the extent possible. When the petition is granted or denied, notice of the decision will be published in the Federal Register pursuant to the authority indicated below.

Comment closing date: February 14, 2005.

Authority: 49 U.S.C. 30118, 30120: delegations of authority at CFR 1.50 and 501.8.

Issued on: January 10, 2005.
Claude H. Harris,
Director, Office of Vehicle Safety Compliance.

[FR Doc. 05-858 Filed 1-13-05; 8:45 am]

BILLING CODE 4910-59-M